DEPARTMENT OF TRANSPORTATION

Coast Guard

33 CFR Part 165

[CGD01-99-197]

RIN 2115-AA97

Safety Zone: Fireworks Display, Naval Station Newport, Newport, RI

AGENCY: Coast Guard, DOT.

ACTION: Temporary final rule.

SUMMARY: The Coast Guard is establishing a safety zone within a five hundred (500) yard radius of the fireworks launching site at Naval Station Newport, Newport, RI on June 30, 2000. The safety zone is needed to safeguard the public from possible hazards associated with a fireworks display. Entry into this zone will be prohibited unless authorized by the Captain of the Port, Providence, Rhode Island.

DATES: This rule is effective from 8 p.m. until 11 p.m. on June 30, 2000 until 11 p.m. July 2, 2000.

ADDRESSES: Comments and material received from the public as well as documents indicated in this preamble as being available in the docket are available for inspection or copying at Coast Guard Marine Safety Office Providence, 20 Risho Avenue, Providence, Rhode Island 02914 between 8 a.m. and 3 p.m., Monday through Friday, except Federal holidays.

FOR FURTHER INFORMATION CONTACT: CWO John W. Winter at Marine Safety Office Providence, (401) 435-2335.

SUPPLEMENTARY INFORMATION:

Regulatory Information

On March 22, 2000, we published a notice of proposed rulemaking (NPRM) entitled Fireworks Display, Naval Station Newport, Newport, RI in the Federal Register (65 FR 15285). We received one comment. No public hearing was requested, and none was held.

Background and Purpose

The safety zone is needed to protect the public from debris and other hazards associated with a fireworks display at Naval Station Newport, starting at 8 p.m. on June 30, 2000, or in the event of rain, on July 2, 2000. The event, which is sponsored by Tall Ships Newport Salute 2000, will last approximately 3 hours.

Discussion of Comments and Changes

One comments was received from the sponsor, Tall Ships Newport Salute 2000, requesting that the rule include a rain date of July 2, 2000. A rain date was incorporated into the final rule.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this rule to be so minimal that a full Regulatory Evaluation under paragraph 10e of the regulatory policies and procedures of DOT is unnecessary.

This safety zone involves a very small area of Narragansett Bay. The effect of this regulation will not be significant due to the small area affected; all vessel traffic may safely transit around this safety zone; and the extensive marine advisories that will be made.

Small Entities

Under the Regulatory Flexibility Act (5 U.S.C. 601-612), we considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of vessels intending to transit or anchor in a portion of Narragansett Bay from 8 p.m. to 11 p.m. on June 30, 2000 (rain date, July 2, 2000).

This safety zone will not have a significant economic impact on a substantial number of small entities for the following reasons. This rule will be in effect for only three hours, commercial and recreational vessel traffic can pass safely around the safety zone, and before the effective period, we will issue maritime advisories widely available to users of Narragansett Bay.

Assistance for Small Entities

Under section 213(a) of the Small Business Regulatory Enforcement Fairness Act of 1996 (Pub. L. 104-121), we offered to assist small entities in understanding the rule so that they can better evaluate its effects on them and participate in the rulemaking. No requests for assistance were received. Small businesses may send comments on the actions of the Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule will call for no new collection of information under the Paperwork Reduction Act of 1995 (44 U.S.C. 3501-3520.).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard has considered the environmental impact of implementing this rule and concluded that, under figure 2-1, paragraph 34(g), of Commandant Instruction M16475.1C, this rule is categorically excluded from further environmental documentation. A “Categorical Exclusion Determination” is available in the docket where indicated under ADDRESSES.

List of Subjects in 33 CFR Part 165

Harbors, Marine safety, Navigation (water), Reports and Recordkeeping Requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05(g), 6.04-1, 6.04-6 and 160.5; 49 CFR 1.46.

2. Add temporary § 165.T01-197 to read as follows:

§ 165.T01-197 Safety Zone: Fireworks Display, Naval Station Newport, Newport, Rhode Island.

(a) Location. All waters within a five hundred (500) yard radius of the fireworks launching platform located approximately 300 yards off shore from Coasters Island and Naval Station Newport, Newport, Rhode Island, in approximate position 41°31′00″ N and 071°20′00″ W.

(b) Effective Period. This section will be enforced from 8 p.m. until 11 p.m. on June 30, 2000. If the fireworks display is cancelled because of bad weather, this section will be enforced on July 2, 2000, at the same times.

(c) Regulations. (1) The general regulations governing safety zones contained in 33 CFR 165.23 apply.

(2) All persons and vessels shall comply with the instructions of the Coast Guard Captain of the Port or the designated on-scene patrol personnel. These personnel comprise commissioned, warrant, and petty officers of the Coast Guard. Upon being hailed by a U.S. Coast Guard vessel by siren, radio, flashing light, or other means, the operator of a vessel shall proceed as directed.

Dated: May 22, 2000.
Peter A. Popko,
Captain, U.S. Coast Guard, Captain of the Port, Marine Safety Office Providence.

[FR Doc. 00-13814 Filed 6-1-00; 8:45 am]

BILLING CODE 4910-15-U